DEPARTMENT OF VETERANS AFFAIRS

Advisory Committee on Cemeteries and Memorials, Notice of Meeting

The Department of Veterans Affairs (VA) gives notice under Federal Advisory Committee Act, 5 U.S.C. App. 2, that a meeting of the Advisory Committee on Cemeteries and Memorials will be held on October 15-16, 2013, in Board of Veterans Appeals Conference Room 4E.400 at the Department of Veterans Affairs, 425 I Street NW., Washington, DC, from 8:30 a.m. to 4 p.m. The meeting is open to the public.

The purpose of the Committee is to advise the Secretary of Veterans Affairs on the administration of national cemeteries, soldiers' lots and plots, the selection of new national cemetery sites, the erection of appropriate memorials, and the adequacy of Federal burial benefits.

On October 15, the Committee will receive updates on National Cemetery Administration issues. On the morning of October 16, the Committee will tour the U.S. Soldiers and Airmen's Home, 3700 North Capitol Street NW., Washington, DC. In the afternoon, the Committee will reconvene at the Board of Veterans Appeals Conference Room to discuss Committee recommendations, future meeting sites, and potential agenda topics.

Time will be allocated for receiving public comments at 1 p.m. on both days. Public comments will be limited to three minutes each. Individuals wishing to make oral statements before the Committee will be accommodated on a first-come, first-served basis. Individuals who speak are invited to submit 1-2 page summaries of their comments at the time of the meeting for inclusion in the official meeting record.

Members of the public may direct questions or submit written statements for review by the Committee in advance of the meeting to Mr. Michael Nacincik, Designated Federal Officer, Department of Veterans Affairs, National Cemetery Administration (43A2), 1100 1st Street NE., Washington, DC 20002, or by email at Michael.n@va.gov. In the public's communications with the Committee, the writers must identify themselves and state the organizations, associations, or persons they represent. Because the meeting is being held in a government building, a photo I.D. must be presented at the Guard's Desk as a part of the clearance process. Therefore, you should allow an additional 15 minutes before the meeting begins. Any member of the public wishing to attend the meeting should contact Mr. Nacincik at (202) 632-7223.

Dated: September 29, 2013.
By Direction of the Secretary.
Vivian Drake,
Committee Management Officer.

[FR Doc. 2013-24312 Filed 10-3-13; 8:45 am]

BILLING CODE 8320-01-P